DEPARTMENT OF COMMERCE

National Oceanic and Atmospheric Administration

RIN 0648-XZ77

Endangered and Threatened Species; Recovery Plans

AGENCY: National Marine Fisheries Service (NMFS), National Oceanic and Atmospheric Administration, Commerce.

ACTION: Notice of Availability; request for comments.

SUMMARY: NMFS announces the availability of the Proposed Upper Willamette River Conservation and Recovery Plan for Chinook Salmon and Steelhead (Plan) for public review and comment. The Plan describes the recovery strategies and actions needed to recover the Upper Willamette River Chinook (Oncorhynchus tschawytscha) Evolutionarily Significant Unit (ESU) and Upper Willamette River steelhead (Oncorhynchus mykiss) Distinct Population Segment (DPS) to viable levels and addresses the human and natural factors that originally led to the threatened listing of these species under the Endangered Species Act (ESA). NMFS is soliciting review and comment from the public and all interested parties on the proposed Plan.

DATES: NMFS will consider and address all substantive comments received during the comment period. Comments must be received no later than 5 p.m. Pacific standard time on December 21, 2010.

ADDRESSES: Please send written comments and materials to Lance Kruzic, National Marine Fisheries Service, 2900 NW Stewart Parkway, Roseburg, OR 97471. Comments may also be submitted by e-mail to: willamette.plan@noaa.gov. Please include “Comments on Upper Willamette Recovery Plan” in the subject line of the e-mail. Comments may be submitted via facsimile (fax) to (541) 957-3386. Persons wishing to review the Plan can obtain an electronic copy (i.e., CD ROM) from Sharon Houghton by calling (503) 230-5418 or by e-mailing a request to sharon.houghton@noaa.gov with the subject line “CD ROM Request for Upper Willamette Recovery Plan.” Electronic copies of the Plan are also available on line on the NMFS Web site, http://www.nwr.noaa.gov/Salmon-Recovery-Planning/Recovery-Domains/Willamette-Lower-Columbia/Will/Will-Plan.cfm.

FOR FURTHER INFORMATION CONTACT: Lance Kruzic, NMFS' Willamette Recovery Coordinator, at (541) 957-3381, or Rob Walton, NMFS' Protected Resources Division at (503) 231-2285.

SUPPLEMENTARY INFORMATION:

Background

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

NMFS is responsible for developing and implementing ESA recovery plans for listed salmon and steelhead. In so doing, NMFS' goal is to restore endangered and threatened Pacific salmonids to the point that they are again self-sustaining members of their ecosystems and no longer need the protections of the ESA. Local support of recovery plans by those whose activities directly affect the listed species, and whose actions will be most affected by recovery efforts, is essential. NMFS therefore supports and participates in locally led collaborative efforts to develop recovery plans that involve local communities, State, tribal, and Federal entities, and other stakeholders.

In the Upper Willamette River Basin, the Oregon Department of Fish and Wildlife (ODFW) has been the local entity leading the development of the recovery plan for ESA-listed Upper Willamette spring Chinook and winter steelhead. After many years of developing the Plan, with a suite of local stakeholders (including local, county, State, and Federal agencies; private industry; fishing organizations; and environmental groups), the ODFW has formally submitted the Plan to NMFS. After review and evaluation, NMFS has determined the Plan meets the statutory requirements for a recovery plan and thus now is proposing to adopt the Plan as the ESA recovery plan for listed Upper Willamette spring Chinook and winter steelhead. The state of Oregon also has a requirement to develop “conservation plans” for native fish in Oregon under their Native Fish Conservation Policy (http://ftp.dfw.state.or.us/fish/nfcp/nfcp.pdf). The state is also proposing this Plan for adoption under its policy. Thus, when adopted, this Plan will serve as a conservation and recovery plan for the state of Oregon and NMFS.

Proposed Recovery Plan for Upper Willamette Salmon and Steelhead

Below is a summary of the key components of the proposed Plan described separately for Upper Willamette River spring Chinook and winter steelhead. The intent of the summary is to provide the reader an overview of the current status of the species, the problems that have led to the current status, and the recovery strategies and actions proposed in the Plan to recover the species to the desired status. See the ADDRESSES section above to obtain a full copy of the proposed Plan.

Upper Willamette River Spring Chinook

The Upper Willamette River spring Chinook ESU was listed by NMFS as threatened in 1999 (64 FR 14308). The ESU includes all naturally spawned populations of spring Chinook in the Clackamas River and in the Willamette Basin upstream of Willamette Falls. The ESU also includes hatchery spring Chinook from five hatcheries: McKenzie River Hatchery, Marion Forks Hatchery, South Santiam Hatchery, Willamette Hatchery, and Clackamas hatchery (70 FR 37160).

Myers et al. (2006) identified seven demographically independent populations of spring Chinook in the Upper Willamette River based on geography, migration rates, genetic attributes, life history patterns, phenotypic characteristics, population dynamics, and environmental and habitat characteristics. The seven populations include the Clackamas, Molalla, North Santiam, South Santiam, Calapooia, McKenzie, and the Middle Fork Willamette. Myers et al. (2006) concluded that the Clackamas, North Santiam, McKenzie and Middle Fork Willamette populations are “core populations” and the McKenzie is a “genetic legacy” population.

Current Status and Listing Factors

There are four Viable Salmonid Population (VSP) parameters NMFS uses to assess the status of salmon and steelhead under the ESA: abundance, productivity, spatial structure, and diversity (McElhany et al., 2000). NMFS considers the Upper Willamette spring Chinook ESU to be at a high risk of extinction due to significant alterations in all of the VSP parameters (McElhany et al., 2007). NMFS is currently conducting a review of the status of all listed species, and will take into account the fact that the Upper Willamette spring Chinook ESU is currently considered to be at high risk of extinction. Of the seven historic populations, only two populations (McKenzie and Clackamas) currently produce significant returns of naturally-produced fish and are deemed to currently be at moderate to low risk. All of the other five populations have exhibited very low returns of naturally-produced spring Chinook salmon and are currently at a high risk of extinction.

NMFS evaluates five listing factors (threats) under section 4(a)(1) when making initial determinations are made whether to list species for protection under the ESA. They include: Present or threatened destruction, modification, or curtailment of [the species'] habitat or range (Factor A); over-utilization for commercial, recreational, scientific, or educational purposes (Factor B); disease or predation (Factor C); inadequacy of existing regulatory mechanisms (Factor D); and other natural or human-made factors affecting [the species'] continued existence (Factor E). At the time of the original listing determination in 1999 (64 FR 14308), NMFS cited all of the five listing factors as contributing to the decline of Upper Willamette spring Chinook salmon. Specifically, the major concerns described were related to: loss of historic spawning and rearing habitat due to dam blockages in the eastside tributaries of the Willamette River; adverse thermal effects downstream from operation of the dams; riparian and stream habitat loss and degradation particularly in the lowland, valley areas (Factors A and D); excessive fishery harvest (Factor B); and adverse effects from hatchery programs (Factor E).

Objective and Measurable Criteria

The ultimate goal of the Plan is to recover spring Chinook populations in the Willamette River and correct the factors that have contributed to their decline to a point where ESA protection is no longer necessary. In determining whether the protections of the Act are no longer necessary, NMFS evaluates (1) the biological status of the ESU or DPS and its constituent populations (viability) and (2) the status of the threats that led to the listing of the species under the ESA as well as any additional threats that have emerged. Thus in formulating a plan for recovery, we include two types of criteria which, when met, will indicate that the listed species no longer requires the protections of the Act—viability criteria and threats criteria. These criteria satisfy the requirements of ESA section 4(f)(1)(B)(ii) and are further described below.

The Willamette/Lower Columbia Technical Recovery Team (Technical Recovery Team) provided information on the historic population structure (Myers et al. 2006) and criteria for ESU/DPS viability (McElhany et al. 2007). The populations are identified in Table 1. The viability criteria for spring Chinook and steelhead are as follows:

1. ESU/DPS is viable when:

(a) At least two populations in the ESU and DPS meet Population Viability Criteria (see 2 below).

(b) The average of all population extinction risk category scores with the ESU or DPS is 2.25 or greater (see 2 below).

(c) Most of “core” populations (i.e., the populations that were most productive historically: 3 of 4 core Chinook populations and 2 of 2 core steelhead populations) within the ESU/DPS are restored to viability.

(d) The ESU/DPS maintains a semblance of normative evolutionary processes by improving to very low risk of extinction the remaining “genetic legacy” populations (Chinook: McKenzie population, steelhead: Santiam populations), and

(e) All populations not meeting Population Viability Criteria below shall not deteriorate and are maintained (at a minimum) at their current risk status.

2. Population Viability: A population is “viable” based on an integrated assessment of the population's abundance, productivity, spatial structure, and diversity status that produces an extinction risk of 5% or less over a 100 year timeframe. The Technical Recovery Team's scoring system is based on a scale from 0-4, with zero being very high risk of extinction (>40% probability of extinction over 100 years) and four being a very low risk of extinction (1% or less probability of extinction over 100 years).

For the Upper Willamette River spring Chinook ESU to achieve viability, the Plan proposes to recover the Upper Willamette ESU and its constituent populations to the risk levels identified in Table 1.

Table 1—Upper Willamette Spring Chinook ESU Population Recovery Scenario
Spring Chinook population | TRT designation | Current risk status | Proposed risk status
Clackamas | Core | Moderate risk | Very low risk.
Molalla |  | Very high risk | High risk.
North Santiam | Core | High risk | Low risk.
South Santiam |  | High risk | Moderate risk.
Calapooia |  | Very high risk | High risk.
McKenzie | Core, Legacy | Low risk | Very low risk.
MF Willamette | Core | Very high risk | Low risk.
Overall ESU Risk (extinction risk score) | High risk (0.71) | Moderate to Low risk (2.57).

In addition to achieving biological viability, the threats to the ESU must also be sufficiently ameliorated so that once the ESU is delisted, there are adequate protections in place to ensure the species is not likely to become listed under the ESA again in the foreseeable future. The five listing factors must be addressed in order for the species to recover to biological viability. Thus, the Plan emphasizes meeting the biological viability criteria by addressing the threats that led to the decline and are currently preventing the species from recovering. The threats criteria are as follows. For further details, see the Plan.

A. Present or Threatened Destruction, Modification, or Curtailment of ESU/DPS' Habitat or Range

1. Habitat related threats have been ameliorated such that they do not limit attainment of the desired status of the ESU/DPS and its constituent populations. The desired status of each population is defined by viability criteria in the Plan.

a. The condition of stream and riparian habitat in freshwater and the estuary has improved since the time of listing.

2. Hydropower/flood control dam related threats have been ameliorated such that they do not and will not limit attainment of the desired status of the ESU/DPS and its constituent populations.

a. Management actions have been implemented since the time of listing to reintroduce salmon and steelhead back into historic habitats above the impassable dams.

b. Survival of outplanted adult fish above the impassable dams to spawning is high.

c. Downstream passage survival of juvenile offspring through the reservoir and dam complexes is high.

d. Management of flow and temperature downstream of the federal dams is sufficient to allow adequate spawning and rearing of salmon and steelhead.

B. Over-Utilization for Commercial, Recreational, Scientific, or Educational Purposes

1. Harvest related threats have been ameliorated such that they do not, and will not, limit attainment of the desired status of the ESU/DPS and its constituent populations.

a. Management actions have been implemented since the time of listing to reduce fishery exploitation rates so that fishery harvest is no longer impeding the recovery potential of the populations and ESU/DPS.

b. Exploitation rates are in accordance with ESA authorizations for ocean and freshwater fisheries.

C. Disease or Predation

1. Disease and predation related threats have been ameliorated such that they do not, and will not, limit attainment of the desired status of the ESU/DPS and its constituent populations.

a. Management actions have been implemented since the time of listing to reduce disease transmission and predation by non-native species in the Willamette Basin.

b. Management actions have been implemented since the time of listing to reduce predation from marine mammals.

c. Management actions have been implemented since the time of listing to reduce disease transmission and predation by hatchery-origin fish in the Willamette Basin and estuary.

D. Inadequacy of Existing Regulatory Mechanisms

1. Inadequacies of existing regulatory mechanisms have been addressed such that the species' biological and habitat requirements are being met to allow attainment of the desired status of populations.

2. Adequate resources, priorities, regulatory frameworks, and coordination mechanisms are established and/or maintained for effective enforcement of land and water use regulations that protect and restore habitats, including water quality and water quantity, and for the effective management of fisheries.

3. Habitat conditions and watershed functions are protected through land-use planning that guides human population growth and development.

4. Habitat conditions and watershed function are protected through regulations that govern resource extraction such as timber harvest and gravel mining.

5. Habitat conditions and watershed functions are protected through land protection agreements as appropriate, where existing policy or regulations do not provide adequate protection.

6. Sufficient priority instream water rights for fish habitat are in place.

E. Other Natural or Human-Made Factors Affecting the ESU/DPS Continued Existence

1. Other natural factors have been accounted for such that they do not limit attainment of the desired status of populations.

2. Hatchery related threats have been ameliorated such that they do not, and will not, limit attainment of the desired status of populations.

a. Management actions have been implemented to reduce genetic and ecological risks of naturally-spawning hatchery fish in the wild.

The Plan describes the threats criteria in more detail and includes the monitoring and evaluation plans in Chapter 8. NMFS concludes that the viability criteria and the threats criteria, as specified in the Plan, define the conditions that, when met, would result in a determination that the Upper Willamette spring Chinook ESU is not likely to become endangered within the foreseeable future throughout all or a significant portion of its range. These conditions represent the best available science at this time. However, they may not necessarily be the only conditions that could result in a decision to delist.

Site-Specific Management Actions

The strategies and actions identified in the Plan related to the recovery scenario for spring Chinook are designed to reduce human and natural impacts associated with the threats facing each population. The Plan also includes the analysis and assumptions used to determine that the identified actions would likely improve the populations to the desired risk status levels identified in Table 1. The key strategies and site-specific management actions are fully described in Chapters 7 and 9 of the Plan. In general, they include:

• Reduce the adverse effects associated with Willamette hydropower and flood control operations by restoring access to historic production areas upstream of the dams, reducing downstream passage mortality of juvenile Chinook through the reservoirs and dams, and restoring more natural flows, temperatures and sediment regimes.

• Protect habitat quantity and quality within the remaining Chinook salmon production areas in all of the populations, and restore instream and riparian habitats. This entails improving water quality and quantity in stream reaches where impaired, restoring riparian habitat to keep streams cool and provide large woody debris, and managing land use by applying best management practices for fishery enhancement.

• In the Calapooia, allow the subbasin to be naturally re-seeded with Chinook strays from other adjacent populations as habitat conditions improve.

• In the Molalla, rebuild Chinook production by improving the habitat for adult and juvenile life stages and then supplementing with fish from a conservation hatchery program for a limited period of time.

• Restore habitat complexity in the mainstem Willamette River to improve juvenile salmonid rearing capacity and survival by restoring riparian function and condition, reconnecting side channels and floodplains to the mainstem river, and restoring water quality to aid salmonid survival particularly through the summer months.

• Protect and restore estuarine habitat complexity (shallow waters, side channels, cover vegetation and structures, riparian areas, wetlands), habitat accessibility (tide gates, other structures) and water quality/quantity to maintain and improve survival of all life stages of salmon and steelhead.

• Reduce the adverse effects of hatchery Chinook programs on the recovery of wild populations by reducing hatchery fish spawning in the wild consistent with recovery goals, promoting locally adapted, naturally reproducing runs above the impassable dams from reintroductions, and adaptively managing the hatchery programs in response to on-going monitoring.

• Continue to implement ODFW's Willamette Chinook Fisheries Management and Evaluation Plan (FMEP) to assure fishery harvest risks are managed appropriately and do not inhibit the recovery potential of any population.

Upper Willamette River Steelhead

“Steelhead” is the name commonly applied to the anadromous (migratory) form of the biological species Oncorhynchus mykiss. The common name of the non-anadromous, or resident, form is rainbow trout. When NMFS originally listed the Upper Willamette River steelhead as threatened in 1999 (64 FR 14517), it was classified as an ESU of salmonids that included both the anadromous and resident forms. Recently, NMFS revised its species determinations for West Coast steelhead under the ESA, delineating anadromous, steelhead-only “distinct population segments” (DPS). NMFS listed the Upper Willamette River steelhead DPS as threatened on January 5, 2006 (71 FR 834). Rainbow trout are under the jurisdiction of the U.S. Fish and Wildlife Service (USFWS). This recovery plan addresses steelhead and not rainbow trout, consistent with the 2006 ESA listing decision.

The Upper Willamette River steelhead DPS includes all naturally spawned winter-run steelhead populations in the Willamette River and its tributaries upstream from Willamette Falls to the Calapooia River (inclusive). It does not include steelhead residing in the McKenzie and Middle Fork Willamette. The Technical Recovery Team identified four historical demographically independent populations of Upper Willamette River winter steelhead: the Molalla, North Santiam, South Santiam, and Calapooia (Myers et al., 2006). These population delineations were based on geography, migration rates, genetic attributes, life history patterns, phenotypic characteristics, population dynamics, and environmental and habitat characteristics with guidance found in McElhany et al. (2000). The North Santiam and South Santiam rivers are thought to have been major production areas and these populations were designated as “core” and “genetic legacy” (Myers et al., 2006). Winter steelhead have been reported spawning in the west-side tributaries to the Willamette River, but these tributaries were not considered to have constituted an independent population historically. There are no hatchery programs producing steelhead within the geographic boundaries of the DPS. The hatchery summer-run steelhead in the Upper Willamette Basin are an out-of-basin stock (originally from Skamania Hatchery) and not considered part of the DPS.

Current Status and Listing Factors

Based upon status assessments in McElhany et al. (2007) and the Plan, the Upper Willamette steelhead DPS is currently at a moderate to low risk of extinction. However, there is uncertainty in the assessment due to the limited population-specific data. The only direct measure of abundance comes from counts at Willamette Falls, which also include winter steelhead returning to areas outside of the DPS (i.e., upstream of the Calapooia River). The counts at Willamette Falls have declined over the last five years compared to the relatively large returns in 2001 through 2004. The most recent five year average is similar to the abundance levels observed in the 1990's, which are much reduced from the previous decades. The Molalla, North Santiam, and South Santiam populations are currently at low risk (McElhany et al. 2007). The Calapooia population is currently at a moderate risk of extinction (McElhany et al. 2007).

As described above for Chinook salmon, we evaluate five listing factors under section 4(a)(1) when determining whether to list species under the ESA. At the time of the original listing determination in 1999 (64 FR 14517), NMFS cited all of the five listing factors as contributing to the decline of Upper Willamette steelhead. Specifically, the major concerns described were related to: loss of historic spawning and rearing habitat due to dam blockages in the eastside tributaries of the Willamette River, adverse thermal effects downstream from operation of the dams, riparian and stream habitat loss and degradation particularly in the lowland, valley areas (Factors A and D); lack of historical abundance data for steelhead populations, management on non-federal lands (Factor D); and adverse effects from hatchery programs (Factor E).

Objective and Measurable Criteria

The ultimate goal of the Plan is to recover spring Chinook populations in the Willamette River and correct the factors that have contributed to their decline to a point where ESA protection is no longer necessary. In determining whether the protections of the Act are no longer necessary, NMFS evaluates (1) the biological status of the ESU or DPS and its constituent populations (viability) and (2) the status of the threats that led to the listing of the species under the ESA as well as any additional threats that have emerged (threats). Thus in formulating a plan for recovery, we include two types of criteria which, when met, will indicate that the listed species no longer requires the protections of the Act—viability criteria and threats criteria. These criteria satisfy the requirements of ESA section 4(f)((1)(B)(ii) and are further described below.

The Technical Recovery Team provided information on the historic population structure (Myers et al. 2006) and criteria for ESU/DPS viability (McElhany et al. 2007). The steelhead populations are identified in Table 2. The biological viability criteria for steelhead are the same criteria as stated above for spring Chinook.

For the Upper Willamette River steelhead DPS to meet viability criteria, the Plan proposes to recover the Upper Willamette DPS and its constituent populations to the risk levels identified in Table 2. In addition to achieving biological viability, the five listing factors that originally led to the listing of the DPS must also be sufficiently ameliorated so that once the DPS is delisted, there are adequate protections in place to ensure the species is not likely to become listed under the ESA again in the foreseeable future. The threats must be addressed in order for the species to recover to viability. Thus, the Plan emphasizes meeting the viability criteria by addressing the threats that are responsible for the species decline. The threats criteria for winter steelhead are the same as specified above for Chinook.

Table 2—Upper Willamette Steelhead DPS Population Recovery Scenario
Steelhead population | TRT designation | Current risk status | Proposed risk status
Molalla |  | Low risk | Very low risk.
North Santiam | Core, genetic legacy | Low risk | Very low risk.
South Santiam | Core, genetic legacy | Low risk | Very low risk.
Calapooia |  | Moderate risk | Moderate risk.
DPS Risk (extinction risk score) | Moderate risk (2.75) | Low to very low risk (3.50).

NMFS concludes that the viability criteria and the threats criteria as specified in the Plan define the conditions that, when met, would result in a determination that the Upper Willamette steelhead DPS is not likely to become endangered within the foreseeable future throughout all or a significant portion of its range. These conditions represent the best available science at this time. However, they may not necessarily be the only conditions that could result in a decision to delist.

Site-Specific Management Actions

The strategies and actions identified in the Plan for winter steelhead are designed to reduce human and natural impacts associated with the primary and secondary limiting factors and threats facing each population. If the primary and secondary limiting factors and threats are ameliorated, then the population should be conserved and recover over time. The Plan also includes the analysis and assumptions used to determine that the identified actions would likely improve the populations to the desired risk status levels identified in Table 2. The proposed key strategies and site-specific management actions are fully described in Chapters 7 and 9 of the Plan. In general, they include:

• Protect and restore freshwater habitat in the tributary areas of the Willamette River for steelhead production. Actions focus on providing adequate spawning and rearing habitat in all of the population areas. Improvements to riparian areas to provide cooler temperatures throughout the summer, provide sources of large woody debris for instream habitat complexity, and keep sufficient water in the stream for juvenile steelhead rearing are critical to recovering steelhead populations. These actions will also provide substantial benefits to listed Chinook.

• Improve water quantity and quality by reducing the impacts of water withdrawals.

• Protect and restore estuarine habitat complexity (shallow waters, side channels, cover vegetation and structures, riparian areas, wetlands), habitat accessibility (tide gates, other structures) and water quality/quantity.

• Address direct impacts of Willamette hydropower and flood control dam/reservoir operations by restoring access to historic production areas, reducing passage mortality, and restoring more natural flows, temperatures and sediment levels.

• Reduce predation and related impacts of birds and fish in the estuary.

• Manage fisheries and hatchery programs adaptively so their impacts on wild steelhead populations are compatible with recovery goals.

Time Required and Cost Estimates for Spring Chinook and Steelhead Recovery

There are unique challenges to estimating time and cost for salmon and steelhead recovery, given the complex relationship of these fish to the environment and to human activities on land. NMFS estimates that recovery of the Upper Willamette River Chinook ESU and steelhead DPS, like recovery for most of the ESA-listed Pacific Northwest salmon and steelhead, could take 50 to 100 years. The Plan is a 25-year plan. Actions identified in the Plan will be implemented within this timeframe, though most of the actions are scheduled to be completed earlier than this. NMFS and ODFW estimated costs associated with implementing new actions or increasing programs resulting from this recovery plan were included, but did not consider other costs, referred to as “baseline” costs, which are part of an entities base program or mission, or which are required by regulatory processes (e.g., ESA section 7 consultations, Clean Water Act implementation actions, state fishery management).

The Plan estimates the total cost for restoring the Upper Willamette Chinook ESU and steelhead DPS at $265 million over the next 25 years (using the assumptions stated above), but cautions that this number could represent a minimal cost for recovery, given all of the costs and uncertainties which are not included in the Plan. Such uncertainties include biological and ecosystem responses to recovery actions, as well as long-term and future funding. At this time, the amount of acreage or miles of habitat that need to be improved is unknown, so quantity and total costs for some actions remain to be determined. Uncertainty of the survival effect of many of the habitat actions also makes estimation of the full extent of habitat action costs difficult. The Plan calls for greater quantification and understanding of the amount of habitat restoration needed.

Conclusion

Section 4(f)(1)(B) of the ESA requires that recovery plans incorporate: (1) Objective, measurable criteria which, when met, would result in a determination that the species is no longer threatened or endangered; (2) site-specific management actions necessary to achieve the Plan's goals; and (3) estimates of the time required and costs to implement recovery actions. As summarized above (and fully described in the Plan), the three requirements for a recovery plan have been fulfilled in this Plan, and thus NMFS is proposing to adopt it under section 4(f)(1) of the ESA for Upper Willamette Chinook and Upper Willamette steelhead.

Public Comments Solicited

NMFS is soliciting written comments on the proposed Plan. All comments received by the date specified above will be considered prior to NMFS' decision whether to approve the Plan. Additionally, NMFS will provide a summary of the comments and responses through its Northwest Region Web site and provide a news release for the public announcing the availability of the response to comments. NMFS is seeking comment particularly in the following areas: (1) If the population recovery scenarios identified in Table 1 and Table 2 are appropriate; (2) if the suite of proposed actions in the Plan are appropriate to recover the ESU and DPS; (3) if the viability and threats criteria for removing the ESU and DPS from the Federal list of endangered and threatened wildlife and plants are appropriate and, in particular, if the threats criteria are sufficiently specific; and (4) if the estimates of time and cost to implement recovery actions are appropriate.

Literature Cited

McElhany, P., M.H. Ruckelshaus, M.J. Ford, T.C. Wainwright, and E.P. Bjorkstedt. 2000. Viable salmon populations and the recovery of evolutionarily significant units. U.S. Dept. of Commerce, NOAA Tech. Memo., NMFS NWFSC 42, 156p. Authority: 16 U.S.C. 1531 et seq.

McElhany, P., M. Chilcote, J. Myers, R. Beamesderfer. 2007. Viability status of Oregon salmon and steelhead populations in the Willamette and Lower Columbia Basins, review draft. National Marine Fisheries Service Northwest Fisheries Science Center, Seattle, WA.

Myers, J., C. Busack, D. Rawding, A. Marshall, D. Teel, D.M. Van Doornik, and M.T. Maher. 2006. Historical population structure of pacific salmonids in the Willamette River and Lower Columbia River Basins. NOAA Technical Memorandum NMFS-NWFSC-73, February, 2006. Seattle, WA.

National Marine Fisheries Service (NMFS). 2008. Endangered Species Act—Section 7(a)(2) Consultation Biological Opinion and Magnuson-Stevens Fishery Conservation and Management Act Essential Fish Habitat Consultation. Consultation on the “Willamette River Basin Flood Control Project.” NMFS, Hydropower Division. Portland, OR.

Authority: 16 U.S.C. 1531 et seq.

Dated: October 19, 2010.
Therese Conant,
Acting Chief Endangered Species Division, Office of Protected Resources, National Marine Fisheries Service.

[FR Doc. 2010-26754 Filed 10-21-10; 8:45 am]

BILLING CODE 3510-22-P